DEPARTMENT OF TRANSPORTATION

Federal Aviation Administration

14 CFR Part 39

[Docket No. FAA-2014-0128; Directorate Identifier 2013-NM-133-AD]

RIN 2120-AA64

Airworthiness Directives; The Boeing Company Airplanes

Correction

In proposed rule document 2014-04568, appearing on pages 11725 through 11728 in the issue of Monday, March 3, 2014, make the following correction:

On page 11725, in the third column, in the third line of the SUMMARY, “Boeing Company Model airplanes” should read “Boeing Company Model 777 airplanes”.

[FR Doc. C1-2014-04568 Filed 3-10-14; 8:45 am]

BILLING CODE 1505-01-D